CORPORATION FOR NATIONAL AND COMMUNITY SERVICE

Meeting With Interested Individuals for Comment on Communications and Marketing Campaign Concepts for Baby Boomers

AGENCY: Corporation for National and Community Service.

ACTION: Notice of meeting.

SUMMARY: The Corporation for National and Community Service will hold a meeting to discuss the development of its proposed communications and marketing campaign concepts targeted at baby boomers. The mission of the Corporation for National and Community Service is to provide opportunities for Americans to engage in service that addresses our nation's educational, public safety, environmental and other human needs. As part of this mission, the Corporation is developing a marketing campaign targeted at baby boomers, as this audience moves towards retirement and is faced with an increase in free time. The intent of the marketing campaign will be to recruit baby boomers to various Corporation programs, as well as to volunteer service in general. In holding meetings to discuss the Corporation's draft campaign concepts for baby boomers, we are interested in receiving comments from individuals born between the years of 1946 and 1964.

DATES: Discussions will be tentatively scheduled on the following dates, in the following locations: Boston, Massachusetts on September 9, 2005; Seattle, Washington on September 12, 2005; and Detroit, Michigan on September 14, 2005.

ADDRESSES: For information on meeting times and locations, please contact Shannon Maynard, Office of Public Affairs, Corporation for National and Community Service, by email at smaynard@cns.gov or by phone at (202) 606-6713.

FOR FURTHER INFORMATION CONTACT: Shannon Maynard, Office of Public Affairs, Corporation for National and Community Service, by e-mail at smaynard@cns.gov or by phone at (202) 606-6713.

Dated: August 23, 2005.
Sandy Scott,
Acting Director, Office of Public Affairs.

[FR Doc. 05-17168 Filed 8-29-05; 8:45 am]

BILLING CODE 6050-$$-P